DEPARTMENT OF HEALTH AND HUMAN SERVICES

Office of the Secretary

Secretary's Advisory Committee on Regulatory Reform; Request for Public Input; Correction

In the Notice document beginning on page 599 in the issue of Friday, January 4, 2002, make the following correction:

On page 600, in the first column the electronic address of the Committee's web site was inadvertently stated as www.regreform.hh.gov. The correct web site address is www.regreform.hhs.gov.

Dated: January 7, 2002.
John Gallivan,
Policy Coordinator.

[FR Doc. 02-642 Filed 1-9-02; 8:45 am]

BILLING CODE 4154-05-P